DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and who have been removed from the list of Specially Designated Nationals and Blocked Persons.

DATES: See Supplementary Information section.

FOR FURTHER INFORMATION CONTACT: OFAC: Associate Director for Global Targeting, tel: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List (SDN List) and additional information concerning OFAC sanctions programs are available on OFAC's website (https://www.treasury.gov/ofac).

Notice of OFAC Actions

On August 1, 2019, OFAC determined that the property and interests in property subject to U.S. jurisdiction of the following persons are unblocked, and removed these persons from the SDN List pursuant to the Foreign Narcotics Kingpin Designation Act.

Individuals

1. CHACON ROSSELL, Marllory Dadiana; DOB 04 Oct 1972; POB Guatemala City, Guatemala; nationality Guatemala (individual) [SDNTK].

2. GARZA RODRIGUEZ, Beatriz (a.k.a. GARZA RODRIGUEZ DE SANCHEZ, Beatriz), Av. Vallarta No. 3060, Colonia Vallarta San Jorge, Guadalajara, Jalisco, Mexico; 5151-37 A Av. Acueducto, La Colonia Residencial Pontevedra, Zapopan, Jalisco, Mexico; DOB 14 Nov 1948; POB Los Mochis, Sinaloa, Mexico; R.F.C. GARB481114965 (Mexico); C.U.R.P. GARB481114MSLRDT03 (Mexico) (individual) [SDNTK] (Linked To: INMOBILIARIA CORSANCH, S.A. DE C.V.).

3. PEREZ ALZATE, Guillermo (a.k.a. “PABLO SEVILLANO”), Diagonal 50 No. 49-14 of. 601, Medellin, Colombia; Calle 26A No. 70-35, Medellin, Colombia; Calle 30 No. 9-51, Monteria, Cordoba, Colombia; Calle 24 No. 1-52, B. Cta de Oro, Colombia; Calle 37 No. 2-40, Almacen Dulcino, Tumaco, Narino, Colombia; Cedula No. 71646827 (Colombia); Passport AF891052 (Colombia) (individual) [SDNTK].

4. QUINTERO NAVIDAD, Sajid Emilio (a.k.a. QUINTERO NAVIDAD, Sagid; a.k.a. “EL CADETE”); DOB 22 Nov 1980; POB Zapopan, Jalisco, Mexico; nationality Mexico; citizen Mexico; C.U.R.P. QUNS801122HJCNVJ00 (Mexico) (individual) [SDNTK].

5. RIEBELING CORDERO, Hilda, 3888 Calle Paseo de los Parques, Colonia Colinas de San Javier, Zapopan, Jalisco, Mexico; DOB 21 Jan 1972; POB Guadalajara, Jalisco, Mexico; Passport 99140083768 (Mexico); R.F.C. RICH7201214J3 (Mexico); C.U.R.P. RICH720121MJCBRL08 (Mexico) (individual) [SDNTK].

6. SANCHEZ GARZA, Diego, Av. Vallarta No. 3060, Colonia Vallarta San Jorge, Guadalajara, Jalisco, Mexico; DOB 05 Apr 1976; POB Guadalajara, Jalisco, Mexico; R.F.C. SAGD760405A45 (Mexico); C.U.R.P. SAGD760405HJCNRG06 (Mexico) (individual) [SDNTK] (Linked To: GRUPO FRACSA, S.A. DE C.V.; Linked To: DBARDI, S.A. DE C.V.; Linked To: GRUPO CONSTRUCTOR SEGUNDO MILENIO, S.A. DE C.V.; Linked To: BOCADOS DE AUTOR, S.A. DE C.V.).

7. SANCHEZ GARZA, Jose de Jesus, Av. Vallarta No. 3060, Colonia Vallarta San Jorge, Guadalajara, Jalisco, Mexico; DOB 12 Aug 1968; POB Guadalajara, Jalisco, Mexico; Passport 98140159994 (Mexico); R.F.C. SAGJ680812RE1 (Mexico); C.U.R.P. SAGJ680812HJCNRS08 (Mexico) (individual) [SDNTK] (Linked To: GRUPO FRACSA, S.A. DE C.V.; Linked To: DBARDI, S.A. DE C.V.).

8. SANCHEZ GARZA, Mauricio, Av. Vallarta No. 3060, Colonia Vallarta San Jorge, Guadalajara, Jalisco, Mexico; DOB 07 Dec 1970; POB Guadalajara, Jalisco, Mexico; Passport 99140083769 (Mexico); R.F.C. SAGM7012071B6 (Mexico); C.U.R.P. SAGM701207HJCNRR05 (Mexico) (individual) [SDNTK] (Linked To: DBARDI, S.A. DE C.V.; Linked To: GRUPO FRACSA, S.A. DE C.V.).

9. SANCHEZ BARBA, Jose de Jesus, Av. Vallarta No. 3060, Col. Vallarta San Jorge, Guadalajara, Jalisco, Mexico; 5151-37 A Avenida Acueducto, La Colonia Residencial Pontevedra, Zapopan, Jalisco, Mexico; DOB 02 Jul 1937; POB Tepatitlan de Morelos, Jalisco, Mexico; C.U.R.P. SABJ370702HJCNRS04 (Mexico) (individual) [SDNTK].

Entities

1. ALMACEN PICIS, 3 Avenida 19-59, Local 14, Zona 1, Guatemala City, Guatemala; Registration ID 80617 (Guatemala) [SDNTK].

2. ALQUILERES ROSSELL, Km 12.5 Carrertera Al Salvador, Santa Rosalia, Condominio La Laguna, Casa 1, Guatemala, Guatemala; Registration ID 388175 (Guatemala) [SDNTK].

3. ANDREA YARI S.A. (a.k.a. ANDREAYARI, S.A.), 2 Calle 6AVE, Barrio El Centro San Pedro Sula, Cortes, Honduras; RUC #45476-12-300189 (Panama) [SDNTK].

4. AUTO HOTEL PUNTO CERO, Kilometro 49.5 Carretera A El Salvador, Aldea El Cerinal, Barberena, Santa Rosa, Guatemala; Registration ID 404256 (Guatemala) [SDNTK].

5. BOCADOS DE AUTOR, S.A. DE C.V. (a.k.a. LUCRECIA BAR), Av. Pablo Neruda 3085, Colonia Providencia, Guadalajara, Jalisco 44630, Mexico; R.F.C. BAU810024J4 (Mexico) [SDNTK].

6. BODEGAS BANYOLAS, 14 Avenida 7-12 Zona 14, Centro Empresarial La Villa Bodega 23, Guatemala City, Guatemala; Registration ID 71152 (Guatemala) [SDNTK].

7. BOUTIQUE MARLLORY, KM 54.5 Carretera Al Salvador, Santa Rosa, Barberena, Guatemala; Registration ID 159497A (Guatemala) [SDNTK].

8. BRODWAY COMMERCE INC., 17 Calle A 7-21, Zona 10, Guatemala City, Guatemala; Registration ID 60832 (Guatemala) [SDNTK].

9. CABOMARZO, 3A Calle 3-46, Zona 2, Residenciales Valles De Maria, Villa Nueva, Guatemala; Registration ID 89276 (Guatemala) [SDNTK].

10. CASA VOGUE, Km 14.1 Carretera El Salvador, Centro Comercial Paseo San Sebastian Local 92, Guatemala City, Guatemala [SDNTK].

11. CORPORACION DAIMEX S.A., 14 Avenida 7-12, Zona 14, Bodega No. 22, Empresarial La Villa, Guatemala City, Guatemala; Registration ID 36397 (Guatemala) [SDNTK].

12. DBARDI, S.A. DE C.V., Guadalajara, Jalisco C.P. 44540, Mexico; Folio Mercantil No. 4867-1 (Mexico) [SDNTK].

13. DELPSA, 2 Calle 25-80, Zona 15, Vista Hermosa II, Apt. 800, Guatemala City, Guatemala; Registration ID 200766 (Guatemala) [SDNTK].

14. DIGITAL SYS ADVISORS, 14 Avenida 7-12 Zona 14, Bodega 22, Empresarial La Villa, Guatemala City, Guatemala; Registration ID 68326 (Guatemala) [SDNTK].

15. DISTRIBUIDORA ROSSELL, Calzada Roosevelt KM, 13 40-31, Zona 11, Guatemala City, Guatemala; Registration ID 388221 (Guatemala) [SDNTK].

16. FARFAR, 14 Avenida 7-12 Zona 14, Bodega 22, Empresarial La Villa, Guatemala City, Guatemala; Registration ID 75563 (Guatemala) [SDNTK].

17. FERNAPLAST, Km 12-5 Ruta Al Atlantico, Apto. A, Zona 18, Guatemala City, Guatemala; Registration ID 188919A (Guatemala) [SDNTK].

18. FER'SEG S.A., 2 Calle 6AVE, Barrio El Centro San Pedro Sula, Cortes, Honduras; Registration ID 160766 (Panama) [SDNTK].

19. GRUPO CONSTRUCTOR SEGUNDO MILENIO, S.A. DE C.V., Av. Acueducto, s/n Col. Fraccionamiento Jardines del Country, Guadalajara, Jalisco C.P. 44210, Mexico; Folio Mercantil No. 5269-1 (Mexico) [SDNTK].

20. GRUPO FRACSA, S.A. DE C.V. (a.k.a. PONTEVEDRA; a.k.a. ZOTOGRANDE), Av. Vallarta No. 3060, Col. Vallarta Norte, Guadalajara, Jalisco, Mexico; Acueducto 5300, Zapopan, Jalisco, Mexico; Acueducto 5151, Zapopan, Jalisco, Mexico; Folio Mercantil No. 19730-1 (Mexico) [SDNTK].

21. HACIENDA SANTA INES, 3 Avenida 13-46 Zona 1, Guatemala City, Guatemala; Registration ID 319945 (Guatemala) [SDNTK].

22. HUERTAS Y HORTALIZAS, Lote 10 Aldea Las Vacas, Zona 16, Guatemala City, Guatemala; Registration ID 49720 (Guatemala) [SDNTK].

23. IMPORTADORA BORRAYO LASMIBAT, 13 Av 26-49, San Jose Las Rosas Zona 8, Guatemala City, Guatemala; Registration ID 135027 [SDNTK].

24. INMOBILIARIA CORSANCH, S.A. DE C.V., Guadalajara, Jalisco, Mexico; Folio Mercantil No. 40778 (Mexico) [SDNTK].

25. INMOBILIARIA DATEUS, 1era Avenida 7-60, Zona 14, Apartamento 1602 Del Edificio Tadeus, Guatemala City, Guatemala; Registration ID 84101 (Guatemala) [SDNTK].

26. INVERSIONES A&E, 8 Avenida 16-49 Zona 10, Edificio San Ignacio Apto. 2-A, Guatemala City, Guatemala; Registration ID 43339 (Guatemala) [SDNTK].

27. RESTAURANT BAR LOS ANDARIEGOS, S.A. DE C.V. (a.k.a. BARBARESCO RESTAURANT), Buenos Aires No. 3090, esq. Montevideo, Col. Providencia, Guadalajara, Jalisco 44630, Mexico; R.F.C. RBA0504194T6 (Mexico) [SDNTK].

28. SISTEMAS CONSTRUCTORES (a.k.a. “SICONSA”), Lote 10, Aldea Las Vacas, Zona 16, Guatemala City, Guatemala; Registration ID 34279 (Guatemala) [SDNTK].

29. WALNUTHILL, Diagnol 6 10-01, Zona 10, Centro Gerencial Las Margaritas, Torre II, Of. 301-B, Guatemala City, Guatemala; Registration ID 80886 (Guatemala) [SDNTK].

Dated: August 1, 2019.
Andrea Gacki,
Director, Office of Foreign Assets Control.

[FR Doc. 2019-16745 Filed 8-5-19; 8:45 am]

BILLING CODE 4810-AL-P